DEPARTMENT OF THE INTERIOR

Bureau of Land Management

[NV-030-01-1610-PD]

Notification of Approved Off Road Vehicle and Area of Critical Environmental Concern Designations, Southern Washoe County Urban Interface Plan Amendment, Nevada

January 9, 2001.

AGENCY: Bureau of Land Management, Carson City Field Office, Nevada.

ACTION: Notification of Approved Off Road Vehicle and Area of Critical Environmental Concern Designation Decisions within the Southern Washoe County Urban interface Plan Amendment, Carson City Field Office, Nevada.

SUMMARY: The Southern Washoe County Urban Interface Plan Amendment amends a portion of the Lahontan Resource Management Plan (RMP). The purpose is to provide for improved management of public lands in the Reno and Sparks metropolitan area. The amendment identifies areas where public lands will be retained in ownership by the people of the United States; areas where public lands are available for acquisition by State or local agencies or the private sector; areas appropriate for acquisition by the BLM; and how public lands will be managed.

The Land Use Master Plans of Reno, Sparks, and Washoe County, and the Washoe County Regional Open Space Plan define and delineate open space in southern Washoe County. Open Space in Washoe County is defined as: Undeveloped land that encompasses natural, scenic, cultural, and recreational resources important to the local quality-of-life. A large portion of the land described in the above plans as being consistent with open space values are public lands managed by the Bureau of Land Management (BLM), Carson City Field Office.

All other uses of public land, not addressed in the plan amendment, will continue to be managed as provided for in the existing Lahontan RMP.

Location: The planning area includes approximately 166,550 acres of public lands administered by the BLM in the urban interface of Southern Washoe County. The planning area is bounded by Bedell Flat to the north, Pyramid Lake Indian Reservation to the northeast, the Pah Rah Mountain Range and Storey County to the east and southeast, the State of California to the west, and Carson City to the south, and includes the communities of Reno and Sparks, Nevada.

Copies of the Southern Washoe County Urban Interface Plan Amendment with maps are available from the following BLM office: BLM-Carson City Field Office, 5665 Morgan Mill Road, Carson City, Nevada 89701.

Public Participation: This RMP Amendment was developed through a joint planning process with Washoe County. Public scoping was initiated with a notice published in the Federal Register in July 1998. Notice of public open houses and an invitation for public comment were published in local newspapers and sent to known interested parties, government entities, and the Nevada State Clearinghouse. This was followed by two BLM/Washoe County joint public open houses held at the BLM Nevada State Office and the Washoe County Commissioner's Chambers in Reno in September and October 1998. Representatives from BLM and Washoe County also presented the proposed plan amendment to the following eight Washoe County Citizen Advisory Boards: Spanish Springs, Galena/Steamboat, Sun Valley, North Valleys, Southeast Truckee Meadows, Cold Springs, East Washoe Valley, and Warm Springs. In addition, the proposal was presented to the following: Washoe County Planning Commission, Washoe County Parks Commission, Sparks Citizen Advisory Committee, Reno Southeast Neighborhood Advisory Board, Washoe Storey Conservation District, and the Nevada Division of Minerals.

A Notice of Availability and Public Meeting for the Proposed Southern Washoe County Urban Interface Plan Amendment and Environmental Assessment, Proposed Designation of Three Areas of Critical Environmental Concern, and Proposed Withdrawal of Public Land; Washoe County, Nevada was published in the Federal Register on July 24, 2000. This published notice initiated the 60-day comment period and Governors Consistency Review that ended on September 22, 2000. The notice also was published in local newspapers and the proposed plan amendment was sent to 532 interested parties, government entities, and the Nevada State Clearinghouse. A summary of comments from the 86 comment letters received and how these comments are addressed is found in Appendix A of the plan.

A public open house was held at the BLM Nevada State Office in Reno on August 24, 2000, and was attended by 27 individuals. Representatives from BLM and Washoe County presented the proposed plan amendment to the following Washoe County Citizen Advisory Boards: Spanish Springs, Galena/Steamboat, Sun Valley, North Valleys, Southeast Truckee Meadows, Cold Springs, East Washoe Valley, and Warm Springs. Presentations were also made to the following: Sierra Front Northwestern Great Basin Resource Advisory Council, Washoe County Planning Commission, Washoe County Board of Commissioners, Sparks Citizen Advisory Board, Truckee Meadows Regional Planning Agency, joint meeting of Reno, Sparks, and Washoe County Parks and Recreation Commissions, Reno Parks Commission, Red Rock Property Owners Association.

The Washoe Tribe, the Reno-Sparks Indian Colony, and the Pyramid Lake Paiute Tribe were consulted in conformance with the Native American Graves Protection and Repatriation Act, the American Indian Religious Freedom Act, and the Environmental Justice Executive Order No.12898.

Off Road Vehicle Designations: The following areas are designated Closed to All Motorized Vehicle Use:

Fred's Mountain: Approximately 3,100 acres located west of Antelope Valley. The Closed Area includes all public land within:

Mt. Diablo Meridian

T. 22 N., R19 E.,

Sec. 3

Sec. 4

Sec. 9

Sec. 10 W½

Sec. 15 W½

Sec. 16

Sec. 22

Hungry Ridge: Approximately 1,940 acres located east of the Reno-Sparks Indian Colony. The Closed Area includes all public land east of the ridge trail within:

Mt. Diablo Meridian

T. 21 N., R20 E.,

Sec. 2

Sec. 3

Sec. 10

Mt. Diablo Meridian

T. 22 N., R20 E.,

Sec. 23

Sec. 26

Sec. 35

The following areas are designated Open to All Motorized Vehicle Use:

Hungry Valley OHV Area: Located in Hungry Valley, the Open Area includes all public land within:

Mt. Diablo Meridian

T. 23 N., R20 E.,

Sec. 16

Sec. 17

Sec. 18

Sec. 19

Sec. 20

Sec. 21

Sec. 22 W½ NW

Sec. 22 SW¼

Sec. 27 west of Winnemucca Ranch Road

Sec. 28

Sec. 29

Sec. 30

Sec. 31

Sec. 32

Sec. 33

Sec. 34

T. 22 N., R20 E.,

Sec. 3

Sec. 4

Sec. 5

Sec. 6

Sec. 7

Sec. 8

Sec. 9

Sec. 10

Sec. 15

Sec. 16

Sec. 17

Sec. 18

Sec. 19

Sec. 20

Sec. 21

Sec. 22

Sec. 27

Sec. 28

Sec. 29

Sec. 30

Sec. 31

Sec. 32

Sec. 33

Sec. 34

T. 21 N., R20 E.,

Sec. 5

Sec. 6

Sec. 7

Sec. 8

Sec. 17

Sec. 18

Lemmon Valley Motocross Area: Located in Lemmon Valley, the Open Area includes all public land within:

Mt. Diablo Meridian

T. 21 N., R19 E.,

Sec. 8

The following area is designated Limited to Designated Routes of Travel for all motorized vehicles.

Swan Lake Nature Study Area: Located in Lemmon Valley, the Limited to Designated Routes of Travel include all public land within:

Mt. Diablo Meridian

T. 21 N., R19 E.,

Sec. 22

Sec. 28

The off road vehicle designation for the remainder of the public land within the planning area is designated Limited to Existing Routes of Travel as of January 9, 2001.

Areas of Critical Environmental Concern Designations: The following areas are designated as Areas of Critical Environmental Concern (ACEC):

Carson Wandering Skipper ACEC: Located in Warm Springs Valley, including all public land within:

Mt. Diablo Meridian

T. 23 N., R 20 E.,

Sec. 15 W½ SE¼

Sec. 22 SE¼

Pah Rah High Basin (Dry Lakes) Petroglyph District ACEC: Located in Pah Rah Range, includes public lands within:

Mt. Diablo Meridian

T. 20 N., R 21 E.,

Sec. 9

Sec. 10

Sec. 14

Sec. 15

Sec. 16

Sec. 17

Sec. 20

Sec. 21

Sec. 22

Sec. 28

Sec. 29

Virginia Range Williams Combleaf Habitat Area ACEC: Located in Virginia Range, including all public lands within:

Mt. Diablo Meridian

T. 17 N., R 20 E.,

Sec. 15 SW¼ NW¼

Sec. 16 E½

Sec. 16 E½ NW¼

Sec. 16 E½ SW¼

Future acquisitions within the planning area, acquired by exchange, donation, or purchase that fall under BLM jurisdiction, will be managed the same as adjacent BLM lands.

Maps of the Off Road Vehicle Designations and Areas of Critical Environmental Concern are available from the following BLM office: BLM-Carson City Field Office, 5665 Morgan Mill Road, Carson City, Nevada 89701.

FOR FURTHER INFORMATION CONTACT: Terri Knutson, Planning and Environmental Coordinator, BLM-Carson City Field Office, 5665 Morgan Mill Road, Carson City, Nevada 89701. Telephone (775) 885-6000. Persons who use a telecommunications device for the deaf (TDD) may call the Federal Information Relay Service (FIRS) at 1-800-877-8339.

Authority: Authority for these decisions is contained in CFR title 43, chapter II, part 1610, subparts 1610.7-2 and CFR title 43, chapter II, part 8340, subparts CFR 8342 and 8343.

Penalty: Under the Federal Land Policy and Management Act of 1976 (43 U.S.C. 1733(a)), any person failing to comply with the designations provided in the notice, may be subject to imprisonment for not more than 12 months, or a fine in accordance with the applicable provisions of 18 U.S.C. 3571, other penalties in accordance with 43 U.S.C. 1733, or both.

Administrative and Emergency Use: These designations do not apply to emergency or law enforcement personnel, or BLM employees engaged in the performance of their official duties.

Dated: May 4, 2001.
Robert V. Abbey,
State Director, Nevada.

[FR Doc. 01-27454 Filed 10-31-01; 8:45 am]

BILLING CODE 4310-HC-P